DEPARTMENT OF COMMERCE

International Trade Administration

[A-583-827]

Static Random Access Memory Semiconductors From Taiwan: Notice of Extension of Time Limit for Final Results of Antidumping Duty Administrative Review

AGENCY: Import Administration, International Trade Administration, Department of Commerce.

SUMMARY: The Department of Commerce is extending the time limit of the final results of the antidumping duty administrative review on static random access memory semiconductors (SRAMs) from Taiwan. The review covers four producers/exporters of the subject merchandise to the United States. The period of review is April 1, 1999, through March 31, 2000.

EFFECTIVE DATE: August 24, 2001.

FOR FURTHER INFORMATION CONTACT: Irina Itkin at (202) 482-0656, Office of AD/CVD Enforcement, Import Administration, International Trade Administration, U.S. Department of Commerce, 14th Street and Constitution Avenue, N.W., Washington, DC 20230.

The Applicable Statute

Unless otherwise indicated, all citations to the Tariff Act of 1930, as amended (the Act), are references to the provisions effective January 1, 1995, the effective date of the amendments made to the Act by the Uruguay Round Agreements Act. In addition, unless otherwise indicated, all citations to the Department's regulations are to 19 CFR part 351 (2000).

Extension of Time Limit for Final Results

Section 751(a)(3)(A) of the Act requires the Department to issue its final results within 120 days after the date on which the preliminary results are published. However, if it is not practicable to complete the final results within this time period, section 751(a)(3)(A) of the Act allows the Department to extend the 120 day time limit to 180 days.

The Department issued the preliminary results of the 1999-2000 administrative review of the antidumping duty order on SRAMs from Taiwan on May 4, 2001 (66 FR 22520). Due to the number of complex sales and cost issues raised by the parties in their case briefs (e.g., the appropriate methodology for making sales and cost comparisons, the calculation of yield/loss ratios, etc.), we determine that it is not practicable to complete the final results of this review within the original time period. Therefore, the Department is extending the time limit for issuing the final results to no later than October 31, 2001.

Dated: August 17, 2001.
Susan Kuhbach,
Acting Deputy Assistant Secretary for Import Administration.

[FR Doc. 01-21470 Filed 8-23-01; 8:45 am]

BILLING CODE 3510-DS-P